DEPARTMENT OF COMMERCE

National Oceanic and Atmospheric Administration

Science Advisory Board

AGENCY: Office of Oceanic and Atmospheric Research (OAR), National Oceanic and Atmospheric Administration (NOAA), Department of Commerce (DOC).

ACTION: Notice of open meeting.

SUMMARY: The Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

TIME AND DATE: The meeting will be held Tuesday, November 29, 2011 from 9 a.m. to 5:30 p.m. and Wednesday, November 30, 2011, from 8:30 a.m. to 2:30 p.m. These times and the agenda topics described below are subject to change. Please refer to the Web page http://www.sab.noaa.gov/Meetings/meetings.html for the most up-to-date meeting agenda.

Place: The meeting will be held at the Embassy Row Hotel, 2015 Massachusetts Avenue NW., Washington, DC Please check the SAB Web site http://www.sab.noaa.gov for directions to the meeting location.

Status: The meeting will be open to public participation with a 15 minute public comment period on November 29 at 5:15 p.m. (check Web site to confirm time). The SAB expects that public statements presented at its meetings will not be repetitive of previously submitted verbal or written statements. In general, each individual or group making a verbal presentation will be limited to a total time of five (5) minutes. Individuals or groups planning to make a verbal presentation should contact the SAB Executive Director by November 22, 2011 to schedule their presentation. Written comments should be received in the SAB Executive Director's Office by November 22, 2011 to provide sufficient time for SAB review. Written comments received by the SAB Executive Director after November 22, 2011 will be distributed to the SAB, but may not be reviewed prior to the meeting date. Seating at the meeting will be available on a first-come, first-served basis.

Matters To Be Considered: The meeting will include the following topics: (1) SAB Data Archive and Access Requirements Working Group White Paper on Management of External Data; (2) Draft Report from the SAB Environmental Information Services Working Group (EISWG), “Toward Open Weather and Climate Services;” (3) Review of EISWG Proposed New Members; (4) External Review of the Cooperative Institute for Alaska Research; (5) A Proposal for Engaging the Science Advisory Board in Reviewing NOAA's Research and Development Portfolio-Presentation and Discussion; (6) NOAA Report on Needs Assessment for Science Advisory Board Working Groups; (7) NOAA Response to the SAB Coastal and Marine Spatial Planning Report; (8) Proposed Members and Chair for the SAB Satellite Task Force; and (9) Updates from SAB Working Groups.

FOR FURTHER INFORMATION CONTACT: Dr. Cynthia Decker, Executive Director, Science Advisory Board, NOAA, Rm. 11230, 1315 East-West Highway, Silver Spring, Maryland 20910. Phone: (301) 734-1156, Fax: (301) 713-1459, Email: Cynthia.Decker@noaa.gov; or visit the NOAA SAB Web site at http://www.sab.noaa.gov.

Dated: October 27, 2011.
Mark E. Brown,
Chief Financial Officer/Chief Administrative Officer, Office of Oceanic and Atmospheric Research, National Oceanic and Atmospheric Administration.

[FR Doc. 2011-28334 Filed 11-1-11; 8:45 am]

BILLING CODE 3510-KD-P